SMALL BUSINESS ADMINISTRATION

[Declaration of Disaster #3385]

Disaster Loan Area; State of Indiana

Shelby County and the contiguous counties of Bartholomew, Decatur, Hancock, Johnson, Marion and Rush in the State of Indiana constitute a disaster area due to damages caused by severe storms and tornadoes that occurred on November 24, 2001. Applications for loans for physical damage may be filed until the close of business on February 11, 2002 and for economic injury until the close of business on September 11, 2002 at the address listed below or other locally announced locations: U.S. Small Business Administration, Disaster Area 2 Office, One Baltimore Place, Suite 300, Atlanta, GA 30308.

The interest rates are:

| Percent
For Physical Damage:
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The number assigned to this disaster for physical damage is 338511 and for economic injury is 9N8000.

(Catalog of Federal Domestic Assistance Program Nos. 59002 and 59008)
Dated: December 11, 2001.
Hector V. Barreto,
Administrator.

[FR Doc. 01-30976 Filed 12-14-01; 8:45 am]

BILLING CODE 8025-01-P